DEPARTMENT OF COMMERCE

International Trade Administration

Notice of Scope Rulings and Anticircumvention Inquiries

AGENCY: Import Administration, International Trade Administration, Department of Commerce.

ACTION: Notice of scope rulings and anticircumvention inquiries.

EFFECTIVE DATE: February 18, 2003.

SUMMARY: The Department of Commerce (the Department) hereby publishes a list of scope rulings and anticircumvention determinations completed between July 1, 2000 and September 30, 2002. In conjunction with this list, the Department is also publishing a list of requests for scope determinations and anticircumvention determinations pending as of September 30, 2002. We intend to publish future lists after the close of the next calendar quarter.

FOR FURTHER INFORMATION CONTACT: Javier Barrientos or Sally Gannon, Import Administration, International Trade Administration, U.S. Department of Commerce, 14th Street and Constitution Avenue NW., Washington, DC 20230; telephone (202) 482-2243 or (202) 482-0162, respectively.

Background

The Department's regulations provide that the Secretary will publish in the Federal Register a list of scope rulings. See 19 CFR 351.225(o). Our most recent “Notice of Scope Rulings” was published on August 29, 2000. See 65 FR at 52409.

This notice covers all scope rulings and anticircumvention determinations completed by Import Administration between July 1, 2000 and September 30, 2002, inclusive. It also lists any scope or anticircumvention inquiries pending as of September 30, 2002. The Department intends to publish the items contained herein in February 2003. As described below, subsequent lists will follow after the close of each calendar quarter.

Scope Rulings Completed Between July 1, 2000 and September 30, 2002

France

A-427-801: Antifriction Bearings (Other Than Tapered Roller Bearings) and Parts Thereof from France; Saint-Gobain Ceramics and Plastics, Inc.; ceramic ball blanks used in the production of balls are outside the scope of the order; August 9, 2001.

Germany

A-428-801: Antifriction Bearings (Other Than Tapered Roller Bearings) and Parts Thereof from Germany; TEMCO Textilmaschinenkomponenten GmbH and Petree & Stoudt Associates, Inc.; certain textile machinery components are outside the scope of the order; October 1, 2001.

India

A-570-864: Pure Magnesium in Granular from the People's Republic of China; ESM Group Inc.; pure magnesium in granular form that is ground in Canada or another third country from pure magnesium ingots produced in the PRC is within the scope of the order; August 21, 2002.

Japan

A-588-804: Antifriction Bearings (Other Than Tapered Roller Bearings) and Parts Thereof from Japan; NTN Bearing Corporation of America; balls used in an EM coupling are within the scope of the order; August 25, 2000.

A-588-804: Antifriction Bearings (Other Than Tapered Roller Bearings) and Parts Thereof from Japan; Sanden International USA; parts of an electromagnetic (EM) coupling, identified as an orbiting EM plate, and a fixed EM plate are outside the scope of the order; February 12, 2001.

A-588-804: Antifriction Bearings (Other Than Tapered Roller Bearings) and Parts Thereof from Japan; NTN Corporation, NTN Bearing Corporation of America, NTN Driveshaft, Inc., NTN-Bower Corporation, and NTN-BCA Corporation; turntable slewing bearings used in computerized tomography (CT) scan machines are outside the scope of the order; July 9, 2001.

A-588-804: Ball Bearings and Parts Thereof from Japan; Honda Motor Company, Ltd., via Honda of Canada Manufacturing; ball bearing and parts thereof are outside the scope of the order; June 20, 2002.

A-588-840: Engineered Process Gas Turbo-Compressor Systems from Japan; Mitsubishi International Corporation; steam turbine imported as a replacement part, revamping the engineered process gas turbo compressor system, is not within the scope of the order; November 29, 2001.

A-588-845: Stainless Steel Sheet and Strip in Coils from Japan; Federal-Mogul Corporation and McCord Leakless Sealing Co.; McCord Grade 301 Precision Strip is within the scope of the order; October 29, 2001.

A-588-854: Tin Mill Products from Japan; Weirton Steel and Independent Steel Worker; double reduced electrolytically chromium coated steel is within the scope of the order; October 12, 2001.

A-588-854: Tin Mill Products from Japan; Ton-Yi Industrial Corporation; double-reduced electrolytic tin plate (ETP) meeting the requirements of ASTM specification A 626/A 626M and double-reduced tin-free (TFS) meeting the requirements of ASTM specification A 657/A 657M produced in Taiwan from Japanese black plate are outside the scope of the order; March 21, 2002.

A-588-854: Tin Mill Products from Japan; Okaya, U.S.A., Inc.; tin-free single reduced electrolytically chromium coated steel is inside the scope of the order; August 27, 2002.

People's Republic of China

A-570-504: Petroleum Wax Candles from the People's Republic of China; Endar Corporation; “bond cake” candles are outside the scope of the order; “Christmas tree” taper and white taper candles are within the scope of the order; July 7, 2000.

A-570-504: Petroleum Wax Candles from the People's Republic of China; Cherrydale Farms; “floating bug” candles are within the scope of the order; October 5, 2000.

A-570-504: Petroleum Wax Candles from the People's Republic of China; Cherrydale Farms; “strawberry preserves” mason jar candle and “novelty fruit gel” candle are within the scope of the order; October 6, 2000.

A-570-504: Petroleum Wax Candles from the People's Republic of China; San Francisco Candle Company; certain Christmas candles containing minimally decorative designs or designs generic to the winter season are within the scope of the order; “Carved Christmas Tree with Star” pillar candle is outside the scope of the order; February 12, 2001.

A-570-504: Petroleum Wax Candles from the People's Republic of China; Barthco Trade Consultants; “floating flower” candles, “floating star” candles, and “mini loaf” candles are all within the scope of the order; April 30, 2001.

A-570-504: Petroleum Wax Candles from the People's Republic of China; Avon Products, Inc.; “heart-shaped” candle is outside the scope of the order; May 4, 2001.

A-570-504: Petroleum Wax Candles from the People's Republic of China; Avon Products, Inc.; “holly” pillar candle is outside the scope of the order; May 8, 2001.

A-570-504: Petroleum Wax Candles from the People's Republic of China; JCPenney Purchasing Corporation; various Christmas candles containing holly and Santa Claus images, “NOEL” pillar candles, Halloween candles containing Jack O” Lanterns and ghosts, certain candles in the form of identifiable objects, “Build Your Own Candle” kit, and certain candles containing palm oil are all outside the scope of the order; candles with non-holiday-specific generic decorations, and candles claimed to be in shapes outside the scope, are all within the scope of the order; May 21, 2001.

A-570-504: Petroleum Wax Candles from the People's Republic of China; Avon Products, Inc.; “tear-drop” candle is within the scope of the order; June 11, 2001.

A-570-504: Petroleum Wax Candles from the People's Republic of China; Avon Products, Inc.; “disc” candle is within the scope of the order; July 11, 2001.

A-570-504: Petroleum Wax Candles from the People's Republic of China; Avon Products, Inc.; “Easter figurine” candles and “pine cone” candles are outside the scope of the order; July 11, 2001.

A-570-504: Petroleum Wax Candles from the People's Republic of China; Avon Products, Inc.; “floral lamp shade” pillar candle is within the scope of the order; July 30, 2001.

A-570-504: Petroleum Wax Candles from the People's Republic of China; JCPenney Purchasing Corporation; “flower” candles and “leaf” candles are all outside the scope of the order; November 9, 2001.

A-570-504: Petroleum Wax Candles from the People's Republic of China; Jo-Ann Stores; “floating flower” candle, “champagne glass flower” candle and “heart floater” candle are all outside the scope of the order; “five point star” candle and “star floater” candle are within the scope of the order; January 29, 2002.

A-570-504: Petroleum Wax Candles from the People's Republic of China; Endar Corporation; “floating pumpkin lantern” candle is within the scope of the order; February 13, 2002.

A-570-504: Petroleum Wax Candles from the People's Republic of China; Atico International, Inc.; “flower-shaped,” “sunflower,” and “tulip with fence” candles are all outside the scope of the order; February 19, 2002.

A-570-504: Petroleum Wax Candles from the People's Republic of China; Premier Candles; “tulip-shaped” wax-filled container is within the scope of the order; February 25, 2002.

A-570-504: Petroleum Wax Candles from the People's Republic of China; Atico International, Inc.; “valentine heart” candle, “Easter egg” candles, “Easter” floating candles, “lantern” candles, and “valentine heart with lip” candle are all within the scope of the order; April 8, 2002.

A-570-504: Petroleum Wax Candles from the People's Republic of China; Avon Products, Inc.; round “ball” candle is within the scope of the order; April 8, 2002.

A-570-504: Petroleum Wax Candles from the People's Republic of China; Endar Corporation; votive candle is within the scope of the order; May 21, 2002.

A-570-504: Petroleum Wax Candles from the People's Republic of China; T.S. Group, Inc.; assorted “utility” candles are within the scope of the order; May 21, 2002.

A-570-504: Petroleum Wax Candles from the People's Republic of China; Peerless Umbrella Co.; “star-shaped” candle is within the scope of the order; August 29, 2002.

A-570-504: Petroleum Wax Candles from the People's Republic of China; Interpro International; assorted round and “floating disc” candles are within the scope of the order; September 26, 2002.

A-570-836: Glycine from the People's Republic of China; Watson Industries, Inc.; glycine of Chinese origin that was refined and re-exported from South Korea which was then imported by Watson, was within the scope of the antidumping duty order; May 3, 2002.

A-570-855: Non-frozen Apple Juice Concentrate from the People's Republic of China; Coloma Foods, Inc., Green Valley Packers, Knouse Foods Cooperative, Inc. and Tree Top, Inc.; imports of “semi-frozen” apple juice concentrate from the PRC are outside the scope of the order; October 1, 2001.

A-570-862: Foundry Coke from the People's Republic of China; Dajin U.S. Trading, Inc.; certain coke (specifically, shipments of coke in which it is determined less than 50 percent of the shipment is larger than 100 mm in diameter, after drop shatter testing) is within the scope of the order; May 31, 2002.

A-570-862: Foundry Coke from the People's Republic of China; Importer: Shook Group LLC and Dajin U.S. Trading, Inc.; Producer: Shanxi Dajin International (Group) Co. Ltd.; certain coke (specifically, shipments of coke in which it is determined less than 50 percent of the shipment is larger than 100 mm in diameter, after drop shatter testing) is within the scope of the order; May 31, 2002.

A-570-864: Pure Magnesium in Granular Form from the People's Republic of China; ESM Group Inc.; pure magnesium in granular form that is ground in Canada or another third country from pure magnesium ingots produced in the PRC is within the scope of the order; August 21, 2002.

Taiwan

A-583-816: Certain Stainless Steel Butt-Weld Pipe Fittings from Taiwan; Importer: Allegheny Bradford Corporation d/b/a Top Line Process Equipment Company; Producer: King Lai International Co., Ltd. from Taichung, Taiwan; stainless steel butt-weld tube fittings are within the scope of the order; December 10, 2001.

A-583-827: Static Random Access Memory Semiconductors from Taiwan; Pacesetter Inc.; Platform B digital integrated circuits and symmetry controllers are not within the scope of the order; June 12, 2000.

Anticircumvention Determinations Completed Between July 1, 2000 and September 30, 2002

None.

Scope Inquiries Terminated Between July 1, 2000 and September 30, 2002

People's Republic of China

A-570-504: Petroleum Wax Candles from the People's Republic of China; Avon Products, Inc.; “pearl” pillar candle containing vegetable wax request withdrawn; original request received May 8, 2001.

A-570-504: Petroleum Wax Candles from the People's Republic of China; Endar Corporation; “floating gel” candle set request withdrawn; original request received October 24, 2001.

A-570-504: Petroleum Wax Candles from the People's Republic of China; Endar Corporation; “floating gel” candle set request withdrawn; original request received November 9, 2001.

Anticircumvention Inquiries Terminated Between July 1, 2000 and September 30, 2002

None.

Scope Inquiries Pending as of September 30, 2002

Brazil

A-351-817 and C-351-818; Cut-To-Length Carbon Steel Plate from Brazil; TradeArbed, Inc.; whether continuous cast steel slab is within the scope of the order; initiated September 9, 2002.

India

A-533-808, A-533-810: Stainless Steel Wire Rod from India; Barthco Trade Consultants; whether stainless steel wire rod shipped to the United Arab Emirates, where it is further processed into finished stainless steel bars, which are then shipped to the United States is within the scope of the order; requested September 10, 2002.

Japan

A-588-835: Oil Country Tubular Goods from Japan; Grant Prideco; whether unfinished drill pipe from Japan without tool joints further processed in China into finished drill pipe with tool joints is substantially transformed into Chinese-origin merchandise; initiated June 16, 2000.

Mexico

A-201-805: Circular Welded Non-Alloy Steel Pipe from Mexico; whether mechanical tubing is within the scope of the order; requested July 31, 1998.

People's Republic of China

A-570-502: Certain Iron Construction Castings from the People's Republic of China; Frank J. Martin Co.; whether certain cast iron full-flanged rings and certain cast iron gas lids are within the scope of the order; requested August 21, 2002.

A-570-504: Petroleum Wax Candles from the People's Republic of China; Burlington Toiletries, Ltd.; whether a petroleum wax gel candle is within the scope of the order; requested August 8, 2000.

A-570-504: Petroleum Wax Candles from the People's Republic of China; Avon Products, Inc.; Atico International, Inc.; whether “snowball” candle, “Christmas cake” candle, certain glowing candles, “JOY” and “PEACE” pillar candles, certain beeswax candles (where exact beeswax composition was not identified), “angel” cake candle, “angel bear” candles, and “NOEL” pillar candle are within the scope of the order; requested August 24, 2001.

A-570-504: Petroleum Wax Candles from the People's Republic of China; Leader Light, Ltd.; whether assorted pillar candles, “star” candles, “brick” candles, wax-filled containers, candle “gardens,” “floating” candles, “jar” candles, and assorted figurines are within the scope of the order; requested September 10, 2001.

A-570-504: Petroleum Wax Candles from the People's Republic of China; Atico International, Inc.; whether a “tiered heart-shaped” disk candle and paraffin wax “gel-filled” candle are within the scope of the order; requested September 19, 2001.

A-570-504: Petroleum Wax Candles from the People's Republic of China; Fleming International, Ltd.; whether candles containing synthetic and vegetable waxes are within the scope of the order; requested October 24, 2001.

A-570-504: Petroleum Wax Candles from the People's Republic of China; For Your Ease Only; whether floating gel candles are within the scope of the order; requested November 15, 2001.

A-570-504: Petroleum Wax Candles from the People's Republic of China; Garden Ridge; whether assorted “animal print” candles containing palm oil are within the scope of the order; requested February 20, 2002.

A-570-504: Petroleum Wax Candles from the People's Republic of China; New Spectrum; whether assorted pillars, rounds, and figurines are within the scope of the order; requested March 29, 2002.

A-570-504: Petroleum Wax Candles from the People's Republic of China; Hallmark Cards, Inc.; whether assorted “leaves” candles, a “star” candle, and a “dome-shaped” candle are within the scope of the order; requested May 8, 2002.

A-570-504: Petroleum Wax Candles from the People's Republic of China; Meijer, Inc.; whether “birthday” candles and assorted pillars, rounds, and wax-filled containers are within the scope of the order; requested May 14, 2002.

A-570-504: Petroleum Wax Candles from the People's Republic of China; Avon Products, Inc.; whether “resin topper jar” candles containing palm oil are within the scope of the order; requested May 21, 2002.

A-570-504: Petroleum Wax Candles from the People's Republic of China; Avon Products, Inc.; whether a “flower” pillar candle containing stearic wax is within the scope of the order; requested May 28, 2002.

A-570-504: Petroleum Wax Candles from the People's Republic of China; Avon Products, Inc.; whether a “fruit” pillar candle containing stearic wax is within the scope of the order; requested May 28, 2002.

A-570-504: Petroleum Wax Candles from the People's Republic of China; Avon Products, Inc.; whether two “disc-shaped” candles containing stearic wax are within the scope of the order; requested May 28, 2002.

A-570-504: Petroleum Wax Candles from the People's Republic of China; Home Interiors & Gifts, Inc.; whether a “rose blossom” candle, “sunflower” floating candles, “Americana heart” floating candles, “baked apple” tea lights, and vanilla tea lights are within the scope of the order; requested June 4, 2002.

A-570-504: Petroleum Wax Candles from the People's Republic of China; Avon Products, Inc.; whether three wax filled gel candles are within the scope of the order; requested June 13, 2002.

A-570-504: Petroleum Wax Candles from the People's Republic of China; Dollar Tree Stores, Inc.; whether assorted “gel-filled” containers are within the scope of the order; requested August 1, 2002.

A-570-504: Petroleum Wax Candles from the People's Republic of China; San Francisco Candle Company; whether a “candy cane” candle is within the scope of the order; requested August 23, 2002.

A-570-504: Petroleum Wax Candles from the People's Republic of China; San Francisco Candle Company; whether a “heart-shaped” candle is within the scope of the order; requested August 23, 2002.

A-570-504: Petroleum Wax Candles from the People's Republic of China; Avon Products, Inc.; whether a “floating rose-shaped” candle is within the scope of the order; requested September 30, 2002.

A-570-504: Petroleum Wax Candles from the People's Republic of China; Neatzit Israel International, Ltd.; whether a Chanukah candle is within the scope of the order; requested September 30, 2002.

Russian Federation

A-821-802: Antidumping Suspension Agreement on Uranium; USEC, Inc. and its subsidiary, United States Enrichment Corporation; whether enriched uranium located in Kazakhstan at the time of the dissolution of the Soviet Union is within the scope of the order; August 6, 1999.

Multiple Countries

A-475-820: Stainless Steel Wire Rod from Italy, C-475-821: Stainless Steel Wire Rod from Italy, A-588-843: Stainless Steel Wire Rod from Japan, A-469-805: Stainless Steel Wire Rod from Spain, A-469-807: Stainless Steel Wire Rod from Spain, A-583-828: Stainless Steel Wire Rod from Taiwan, A-533-810: Certain Stainless Steel Wire Rod from India, A-588-833: Stainless Steel Wire Rod from India, A-351-825: Stainless Steel Wire Rod from Brazil, A-533-808: Stainless Steel Wire Rod from India, C-469-004: Stainless Steel Wire Rod from Spain; Ishar Bright Steel Ltd.; scope inquiry as to whether stainless steel bar that is manufactured in the United Arab Emirates from stainless steel wire rod imported from multiple subject countries is within the scope of the orders; requested December 22, 1998.

Anticircumvention Inquiries Pending as of September 30, 2002

Italy

A-475-818 & C-475-819: Certain Pasta From Italy; Pastificio Fratelli Pagani S.p.A. (Pagani); whether imports of certain pasta from Italy, falling within the physical dimensions outlined in the scope of the order, are circumventing the antidumping and countervailing duty orders; initiated April 27, 2000.

Japan

A-588-824 Corrosion-Resistant Carbon Steel Flat Products; USS-Posco Industries; whether imports of boron-added hot-dipped and electrolytic corrosion-resistant carbon steel sheet, falling within the physical dimensions outlined in the scope of the order, are circumventing the order; initiated October 30, 1998.

Interested parties are invited to comment on the completeness of this list of pending scope inquiries. Any comments should be submitted to the Deputy Assistant Secretary for AD/CVD Enforcement Group III, Import Administration, International Trade Administration, 14th Street and Constitution Avenue NW, Room 1870, Washington, DC 20230.

This notice is published in accordance with section 351.225(o) of the Department's regulations.

Dated: February 10, 2003.
Joseph A. Spetrini,
Deputy Assistant Secretary for Import Administration, Group III.

[FR Doc. 03-3851 Filed 2-14-03; 8:45 am]

BILLING CODE 3510-DS-P